NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of a CHANGE in the scheduling of a teleconference for the transaction of National Science Board business, as follows:

FEDERAL REGISTER CITATION OF PREVIOUS ANNOUNCEMENT: 85 FR 60272, which appeared on September 24, 2020.

PREVIOUSLY ANNOUNCED TIME AND DATE OF THE MEETING: Tuesday, September 29, 2020 at 4:30-5:00 p.m. EDT.

CHANGES IN THE MEETING: The new date and time for the meeting are October 14, 2020 from 1:30-2:00 p.m. EDT. Other information about the meeting remains unchanged.

CONTACT PERSON FOR MORE INFORMATION: Point of contact for this meeting is: Chris Blair, cblair@nsf.gov, 703-292-7000. To listen to this teleconference, members of the public must send an email to nationalsciencebrd@nsf.gov at least 24 hours prior to the teleconference. The National Science Board Office will send requesters a toll-free dial-in number. Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-22263 Filed 10-5-20; 11:15 am]

BILLING CODE 7555-01-P